DEPARTMENT OF THE INTERIOR

Office of the Secretary

[XXXD5198NI DS61100000 DNINR0000.000000 DX61104]

Notice of Teleconference Meeting of the Exxon Valdez Oil Spill Public Advisory Committee

AGENCY: Office of the Secretary, Interior.

ACTION: Meeting notice.

SUMMARY: In accordance with the Federal Advisory Committee Act, the Department of the Interior, Office of the Secretary, is announcing that the Exxon Valdez Oil Spill (EVOS) Trustee Council's Public Advisory Committee (PAC) will meet by teleconference as noted below.

DATES: The virtual meeting will be held on Friday, January 8, 2021, beginning at 10 a.m. Alaska Standard Time (AKST).

ADDRESSES: The meeting will be virtual only using the Zoom meeting platform. To view a tutorial on how to join a Zoom meeting, please go to https://support.zoom.us/hc/en-us/articles/201362193-How-Do-I-Join-A-Meeting-.

The video feature will be turned off for all attendees except for the EVOS PAC, Trustee Council staff, presenters, and speakers during public comment to limit bandwidth use and maximize connectivity during the meeting. Please remain muted until you are called upon to speak.

Connect to meeting using Zoom link (video and audio): https://zoom.us/j/95127118031?pwd=dkhsVmM3YnYrTnVicWRSc09TcmNxQT09.

Meeting ID: 951 2711 8031

Passcode: 034787

Follow the prompts; you will be asked if you would like to join audio with internet (your device microphone/speaker) or use a telephone (follow the prompts accordingly).

Connect to the meeting via telephone (audio only, no video):

Dial any of the following numbers:

(253) 215-8782

(669) 900-6833

(346) 248-7799

(312) 626-6799

(929) 205-6099

(301) 715-8592

Enter the Meeting ID 951 2711 8031#; there is no participant code, and use *6 to mute. Please check the EVOS Trustee Council website for updates regarding the virtual meeting at www.evostc.state.ak.us/.

FOR FURTHER INFORMATION CONTACT: Dr. Philip Johnson, Department of the Interior, Office of Environmental Policy and Compliance, telephone number: (907) 786-3914; email: philip_johnson@ios.doi.gov.

SUPPLEMENTARY INFORMATION: The EVOS PAC was created pursuant to Paragraph V.A.4 of the Memorandum of Agreement and Consent Decree entered into by the United States of America and the State of Alaska on August 27, 1991, and approved by the United States District Court for the District of Alaska in settlement of United States of America v. State of Alaska, Civil Action No. A91-081 CV.

The EVOS PAC meeting agenda includes:

• Discussion of the EVOS Trustee Council's Draft Resolutions 20-A, 20-B, 20-C, and 20-D

• Public Comments

The public comment period for the Draft Resolutions 20-A through 20-D is open from October 16, 2020, until December 16, 2020. If you would like to provide comments on the Draft Resolutions, please go to: https://evostc.state.ak.us/publications/trustee-council-2020-draft-resolutions-for-public-comment/.

All comments received by the EVOS Trustee Council will be provided to the EVOS PAC members and discussed at the meeting.

Interested persons may choose to make oral comments at the meeting during the designated time. Depending on the number of people wishing to comment and the time available, the amount of time for oral comments may be limited. Interested parties should contact the Designated Federal Officer (see FOR FURTHER INFORMATION CONTACT) for advance placement on the public speaker list for this meeting.

The final agenda and materials for the meeting will be posted on the EVOS Trustee Council website at www.evostc.state.ak.us. All EVOS PAC meetings are open to the public.

Public Disclosure of Comments

Before including your address, phone number, email address, or other personal identifying information in your comments, please be aware that your entire comment, including your personal identifying information, may be made publicly available at any time. While you can ask us in your comment to withhold your personal identifying information from public review, we cannot guarantee that we will be able to do so.

Authority: 5 U.S.C. Appendix 2.

Philip Johnson,
Regional Environmental Officer, Office of Environmental Policy and Compliance.

[FR Doc. 2020-25624 Filed 11-19-20; 8:45 am]

BILLING CODE 4334-63-P